ENVIRONMENTAL PROTECTION AGENCY

[OPA-2004-0001; FRL-7669-4]

Agency Information Collection Activities; Submission to OMB for Review and Approval; Comment Request; Oil Pollution Act Facility Response Plan Requirements (40 CFR Part 112) (Renewal), EPA ICR Number 1630.08, OMB Control Number 2050-0135

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on May 31, 2004. Under OMB regulations, the Agency may continue to conduct or sponsor the collection of information while this submission is pending at OMB. This ICR describes the nature of the information collection and its estimated burden and cost.

DATES: Additional comments may be submitted on or before July 1, 2004.

ADDRESSES: Submit your comments, referencing docket ID number OPA-2004-0001, to (1) EPA online using EDOCKET (our preferred method), by e-mail to rcra-docket@epa.gov, or by mail to: EPA Docket Center, Environmental Protection Agency, Office of Solid Waste and Emergency Response (OSWER) Docket, Mail Code 5305T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Leigh DeHaven, Office of Solid Waste and Emergency Response, OEPPR, Mail Code 5203G, Environmental Protection Agency, 1200 Pennsylvania Ave., NW., Washington, DC 20460; telephone number: (703) 603-9065; fax number: (703) 603-9116; e-mail address: dehaven.leigh@epa.gov.

SUPPLEMENTARY INFORMATION: EPA has submitted the following ICR to OMB for review and approval according to the procedures prescribed in 5 CFR 1320.12. On March 10, 2004 (69 FR 11422), EPA sought comments on this ICR pursuant to 5 CFR 1320.8(d). EPA received no comments.

EPA has established a public docket for this ICR under Docket ID number OPA-2004-0001, which is available for public viewing at the OSWER Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OSWER Docket is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Oil Pollution Act Facility Response Plan Requirements (40 CFR Part 112) (Renewal).

Abstract: The authority for EPA's facility response plan requirements is derived from section 311 of the Clean Water Act, as amended by the Oil Pollution Act of 1990. EPA's regulation is codified at 40 CFR 112.20 and 112.21. All facility response plan (FRP) reporting and recordkeeping activities are mandatory. The burden changes in this renewal ICR primarily reflect adjustments to the number of facilities over time. This information collection request renewal also incorporates impacts associated with a program change to the Spill Prevention, Control and Countermeasure (SPCC) regulations since the last ICR approval (May 2, 2001). EPA issued revisions to the final SPCC regulations on July 17, 2002.

A facility-specific response plan (FRP) will help an owner or operator identify the necessary resources to respond to an oil spill in a timely manner. If implemented effectively, the FRP will reduce the impact and severity of oil spills and may prevent spills because of the identification of risks at the facility. Although the owner or operator is the primary data user, EPA also uses the data in certain situations to ensure that facilities comply with the regulation and to help allocate response resources. State and local governments may use the data, which are not generally available elsewhere and can greatly assist local emergency preparedness planning efforts.

EPA reviews all submitted FRPs and must approve FRPs for those facilities whose discharges may cause “significant and substantial harm” to the environment in order to ensure that facilities believed to pose the highest risk have planned for adequate resources and procedures to respond to a spill. (See 40 CFR 112.20(f)(3) for further information about the criteria for “significant and substantial harm.”)

None of the information to be gathered for this collection is believed to be confidential. An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 60 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: The owner or operator of a facility that is required to have a SPCC plan under the Oil Pollution Prevention regulation (40 CFR part 112) and that could cause “substantial harm” to the environment must prepare and submit to EPA a facility response plan. (See 40 CFR 112.20(b)(1) and (f) for further information about the criteria for substantial harm.”)

Estimated Number of Respondents: 10,644.

Frequency of Response: On occasion, as needed.

Estimated Total Annual Hour Burden: 634,994.

Estimated Total Annual Cost: $17,931,000, includes $21,000 annual startup/capital costs, $0 annual O&M costs and $17,910,000 annual labor costs.

Changes in the Estimates: There is an increase of 51,864 hours in the total estimated burden currently identified in the OMB Inventory of Approved ICR Burdens. This increase is due to an adjustment to account for growth of the affected facility universe over time. This increase is partially offset, however, due to program changes to the Spill Prevention, Control, and Countermeasure (SPCC) Plan regulations that exclude wastewater treatment facilities.

Dated: May 21, 2004.
Richard T. Westlund,
Acting Director, Collection Strategies Division.

[FR Doc. 04-12416 Filed 6-1-04; 8:45 am]

BILLING CODE 6560-50-P